DEPARTMENT OF TRANSPORTATION

Office of the Secretary: Notice of Applications for Certificates of Public Convenience and Necessity and Foreign Air Carrier Permits Filed Under Subpart B (Formerly Subpart Q)

Notice of Applications for Certificates of Public Convenience and Necessity and Foreign Air Carrier Permits Filed Under Subpart B (formerly Subpart Q) during the week ending August 21, 2010. The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the answer period DOT may process the application by expedited procedures. Such procedures may consist of the adoption of a show-cause order, a tentative order, or in appropriate cases a final order without further proceedings.

Docket Number: DOT-OST-2005-22228.

Date Filed: August 17, 2010.

Due Date for Answers, Conforming Applications, or Motion to Modify Scope: September 7, 2010.

Description: Application of Atlas Air, Inc. requesting renewal of its certificate of public convenience and necessity for blanket route integration, awarded by Order 2006-1-1.

Renee V. Wright,
Program Manager, Docket Operations Federal Register Liaison.

[FR Doc. 2010-21941 Filed 9-1-10; 8:45 am]

BILLING CODE 4910-9X-P